DEPARTMENT OF THE INTERIOR

Fish and Wildlife Service

[FWS-R1-ES-2010-N252; FXES11130100000C2-123-FF01E00000]

Endangered and Threatened Wildlife and Plants; Recovery Plan for Hawaiian Waterbirds, Second Revision

AGENCY: Fish and Wildlife Service, Interior.

ACTION: Notice of document availability.

SUMMARY: We, the U.S. Fish and Wildlife Service, announce the availability of the final approved Recovery Plan for Hawaiian Waterbirds, Second Revision. The recovery plan addresses four endangered bird species. This plan includes recovery objectives and criteria, and specific recovery actions necessary to achieve downlisting and delisting of the species and their removal from the Federal List of Endangered and Threatened Wildlife and Plants.

ADDRESSES: An electronic copy of the recovery plan is available at http://www.fws.gov/endangered/species/recovery-plans.html and http://www.fws.gov/pacific/ecoservices/endangered/recovery/plans.html. Copies of the recovery plan are also available by request from the U.S. Fish and Wildlife Service, Pacific Islands Fish and Wildlife Office, 300 Ala Moana Boulevard, Room 3-122, Box 50088, Honolulu, HI 96850 (telephone: (808) 792-9400).

FOR FURTHER INFORMATION CONTACT: Annie Marshall, Fish and Wildlife Biologist, at the above Honolulu address.

SUPPLEMENTARY INFORMATION: We announce the availability of the approved Recovery Plan for Hawaiian Waterbirds, Second Revision. The recovery plan addresses the following four bird species listed as endangered: Hawaiian duck or koloa maoli (Anas wyvilliana), Hawaiian coot or alae keokeo (Fulica alai), Hawaiian common moorhen or alae ula (Gallinula chloropus sandvicensis), and Hawaiian stilt or aeo (Himantopus mexicanus knudseni).

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions considered necessary for the conservation of listed species, establish criteria for downlisting or delisting, and estimate time and cost for implementing the measures needed for recovery.

The Act requires the development of recovery plans for endangered or threatened species unless such a plan would not promote the conservation of the species. Section 4(f) of the Act requires that public notice, and an opportunity for public review and comment, be provided during recovery plan development. A recovery plan for these four waterbirds was first published in 1978, and the first revision of the recovery plan was published in 1985. A draft of the second revision to the recovery plan was made available for public comment from July 9 through September 7, 1999 (64 FR 37148). However, that draft was never finalized. From August 24 through October 24, 2005, we made a second draft of the second revision available for public comment (70 FR 49668). We have considered information we received from public comments and peer reviewers in our preparation of the recovery plan, and have summarized that information in an appendix of the approved recovery plan. We welcome continuing public comment on this recovery plan, and we will consider all substantive comments on an ongoing basis to inform the implementation of recovery activities and future updates to the recovery plan.

The four species of waterbirds addressed in the recovery plan occurred historically on all of the main Hawaiian Islands except Lanai and Kahoolawe. Currently, Hawaiian ducks are found on the islands of Niihau, Kauai, Oahu, Maui, and Hawaii; Hawaiian coots and Hawaiiian stilts are found on all of the main Hawaiian Islands except Kahoolawe; and Hawaiian common moorhens are found only on the islands of Kauai and Oahu. These species use a variety of wetland habitats, including freshwater marshes and ponds, coastal estuaries and ponds, artificial reservoirs, taro patches, irrigation ditches, sewage treatment ponds, and, in the case of the Hawaiian duck, montane streams and swamplands. Historically, the primary cause of population declines for the endangered Hawaiian waterbirds has been loss of wetland habitat. Other factors that have contributed to waterbird population declines, and which continue to be detrimental, include predation by introduced animals, altered hydrology, grazing, alteration of habitat by invasive nonnative plants, disease, and possibly environmental contaminants. Hunting in the late 1800s and early 1900s took a heavy toll on Hawaiian duck populations and, to a lesser extent, populations of the other three endemic waterbirds. Currently, predation by introduced animals may be the greatest threat to the coot, moorhen, and stilt; hybridization with feral mallards is the most serious threat to the Hawaiian duck.

The recovery of the endangered waterbirds focuses on the following objectives: (1) Increasing population numbers to be consistently stable or increasing, with a minimum of 2,000 birds for each species; (2) establishing multiple, self-sustaining breeding populations throughout each species' historical range; (3) establishing and protecting a network of both core and supporting wetlands that are managed as habitat suitable for waterbirds, including the maintenance of appropriate hydrological conditions and control of invasive nonnative plants; (4) eliminating or controlling the threats posed by introduced predators, avian diseases, and contaminants; and (5) for the Hawaiian duck, removing the threat of hybridization with feral mallards.

Authority: The authority for this action is section 4(f) of the Endangered Species Act, 16 U.S.C. 1533(f).

Dated: October 28, 2011.
Richard R. Hannan,
Acting Regional Director, Region 1, U.S. Fish and Wildlife Service.

[FR Doc. 2012-926 Filed 1-18-12; 8:45 am]

BILLING CODE 4310-55-P